DEPARTMENT OF HOMELAND SECURITY

National Protection and Programs Directorate, Office of Infrastructure Protection; Submission for Review: Protected Critical Infrastructure Information (PCII) Program Survey 1670—NEW

AGENCY: National Protection and Programs Directorate, Office of Infrastructure Protection, DHS.

ACTION: 60-Day Notice and request for comments.

SUMMARY: The Department of Homeland Security (DHS) invites the general public and other federal agencies the opportunity to comment on new information collection request 1670—NEW, Protected Critical Infrastructure Information (PCII) Program Survey. As required by the Paperwork Reduction Act of 1995, (Pub. L. 104-13, 44 U.S.C. chapter 35) as amended by the Clinger-Cohen Act (Pub. L. 104-106), DHS is soliciting comments for this collection.

DATES: Comments are encouraged and will be accepted until May 27, 2008. This process is conducted in accordance with 5 CFR 1320.1.

ADDRESSES: Comments and questions about this Information Collection Request should be forwarded to the Department of Homeland Security, National Protection and Programs Directorate, Infrastructure Protection, Infrastructure Information Collection Division, Attn: Veronica Heller, Team Lead, Planning and Policy Integration Team, Ballston One, 4601 N. Fairfax Dr., 5th Floor, Arlington, VA 22203.

FOR FURTHER INFORMATION CONTACT: Department of Homeland Security, National Protection and Programs Directorate, Infrastructure Protection, Attn: Veronica Heller, veronica.heller@hq.dhs.gov or 703-235-3035. This is not a toll free number.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs; Directorate, Infrastructure Protection.

Title: Protected Critical Infrastructure Information (PCII) Program Survey.

OMB Number: 1670—NEW.

Frequency: Once.

Affected Public: Federal, State, local, and tribal government employees and associated government contractors.

Number of Respondents: 400 per year.

Estimated Time Per Respondent: 8 minutes.

Total Burden Hours: 53 hours.

Total Burden Cost (capital/startup): None.

Total Burden Cost (operating/maintaining): None.

Description: The Protected Critical Infrastructure Information (PCII) Program Office (PO) uses the PCII program customer survey to determine levels of customers' satisfaction with PCII Officer and Authorized User training. The survey supports data-based decision-making because it evaluates quantitative and qualitative data to identify improvements and identify significant issues based on customers' experience. Obtaining current fact-based actionable data about training allows the program to recalibrate its resources to address new or emerging issues.

Dated: March 21, 2008.
Matt Coose,
Acting Chief Information Officer, National Protection and Programs Directorate, Department of Homeland Security.

[FR Doc. E8-6337 Filed 3-27-08; 8:45 am]

BILLING CODE 4410-10-P